DEPARTMENT OF AGRICULTURE

Grain Inspection, Packers and Stockyards Administration

United States Standards for Whole Dry Peas and Split Peas

AGENCY: Grain Inspection, Packers and Stockyards Administration, USDA.

ACTION: Notice; request for public comment.

SUMMARY: The Department of Agriculture's (USDA) Grain Inspection, Packers and Stockyards Administration (GIPSA) is soliciting comments on the proposed revisions to the United States Standards for Whole Dry Peas and Split Peas. The proposal would amend the general definitions, “Whole Dry Peas” and “Split Peas,” and the following specific definitions: “Smooth Green Dry Peas,” “Smooth Yellow Dry Peas,” “Wrinkled Dry Peas,” “Green Split Peas” and “Yellow Split Peas.” In addition, GIPSA proposes to modify the classification term and associated definitions, “Winter Dry Peas” and “Winter Split Peas.” These proposed changes will help facilitate the marketing of new winter pea variety releases and help ensure the purity of class for “Whole Dry Peas” and “Split Peas.”

DATES: GIPSA will consider comments received by May 20, 2009.

ADDRESSES: You may submit your written or electronic comments on this notice to:

• Mail: Tess Butler, GIPSA, USDA, 1400 Independence Avenue, SW., Room 1643-S, Washington, DC 20250-3604.

• E-Mail comments to comments.gipsa@usda.gov.

• Fax: (202) 690-2173

• Internet: Go to http://www.regulations.gov and follow the On-Line instruction for submitting comments.

All comments will become a matter of public record and should be identified as “Whole Dry and Split Pea Notice Comments,” making reference to the date and page number of this issue of the Federal Register. Comments will be available for public inspection in the above office during regular business hours (7 CFR 1.27(b)). Please call the GIPSA Management Support Staff at (202) 720-7486 to make an appointment to read comments.

FOR FURTHER INFORMATION CONTACT: Beverly A. Whalen at USDA, GIPSA, FGIS, Market and Program Analysis Staff, Beacon Facility, STOP 1404, P.O. Box 419205, Kansas City, Missouri, 64141; Telephone (816) 823-4648; Fax Number (816) 823-4644; e-mail Beverly.A.Whalen@usda.gov.

SUPPLEMENTARY INFORMATION:

Background

Section 203(c) of the Agricultural Marketing Act of 1946, as amended, (AMA) (7 U.S.C. 1622(c)), directs and authorizes the Secretary of Agriculture “To develop and improve standards of quality, condition, quantity, grade, and packaging, and recommend and demonstrate such standards in order to encourage uniformity and consistency in commercial practices.” GIPSA is committed to carrying out this authority in a manner that facilitates the marketing of agricultural commodities.

GIPSA establishes and maintains a variety of quality and grade standards for agricultural commodities that serve as the fundamental starting point to define commodity quality in the domestic and global marketplace. GIPSA provides official procedures for how inspectors determine the various grading factors in supporting handbooks, such as the Pea and Lentil Handbook, which is available on the GIPSA Web site at http://www.gipsa.usda.gov/GIPSA/webapp?area=home&subject=lr&topic=hb-pl.

The AMA standards and supporting procedures are voluntary and used widely in private contracts, government procurement and marketing communication. Standards developed under the AMA include those for rice, whole dry peas, split peas, feed peas, lentils and beans. The U.S. standards for whole dry peas, split peas, feed peas, lentils and beans no longer appear in the Code of Federal Regulations, but are now maintained by USDA—GIPSA. The process for developing or reviewing these standards is specified in the AMA regulations (7 CFR 868.102, Procedures for establishing and revising grade standards). The U.S. Standards for Whole Dry Peas and Split Peas are available from the GIPSA Website at http://www.gipsa.usda.gov, or by phone, fax or e-mail from the contact listed above.

GIPSA representatives maintain an ongoing working relationship with the USA Dry Pea and Lentil Council (USADPLC), a national organization of producers, processors, and exporters of U.S. dry peas, lentils, and chickpeas; the US Dry Pea and Lentil Trade Association (USPLTA), a national association representing processors, traders, and transporters in the pea and lentil industry, as well as handlers and merchandisers to ensure the effectiveness of the U.S. Standards for whole dry peas, split peas, and lentils in today's marketing environment. According to information received by GIPSA from the USADPLC and USPLTA, the release of and the market's acceptance of new winter pea varieties necessitate several changes in the grading standards for winter dry peas and split peas. As a result, GIPSA is proposing changes to the whole dry and split pea standards to enable new and future winter pea variety releases to be classified and marketed on the basis of cotyledon color and desired usage, not on the basis of growth habit. GIPSA also proposes to modify classification terms and broaden associated working definitions to permit physically and visually similar peas to be included in a common class to help ensure purity.

Whole Dry Pea Definition and Classification Changes

In discussions with pea breeders, producers, processors, and merchandisers, GIPSA is proposing changing the way in which different types and varieties of domestically grown peas are classified and defined. Doing so will improve the effectiveness of the standards so they may better facilitate product marketing. The advent of new winter dry pea varieties, which have improved seed size consistency and lack the distinctive mottling or patterning normally associated with winter dry peas, will be able to compete with smooth yellow and green peas for a share of the food market instead of being limited to feed and forage uses, as has been the case in the past.

The current whole dry pea classification standards serve as an obstacle to marketing new and future winter dry pea varieties as smooth yellow or green peas. The wording used to define “Winter Dry Peas” prohibits new variety releases from being included in the class “Smooth Yellow Dry Peas” or “Smooth Green Dry Peas.” Although the cotyledon color of the new releases is yellow or green, a distinguishing trait for smooth dry peas, it is not an attribute considered in the classification of winter dry peas. In the current classification, the most important factor considered is the planting date, since all “winter field type” peas are now classified as “Winter Dry Peas.” While the cotyledon color of the new and future varietal releases may meet the general inspection criteria for smooth yellow or green peas, the fact that they are planted in the fall requires that they receive a winter dry pea classification.

In the official inspection system, GIPSA has found that the practical application of this definition is difficult particularly with regard to fall and spring planted peas. In the past, the distinguishing feature that most inspectors relied on was the presence or absence of a mottled or patterned seed coat, a trait commonly associated with traditional winter dry peas. However, new releases have only faint mottling to the extent that some refer to it as “ghost” mottling because it is difficult to see. Furthermore, the faint mottling is not uniform within a variety, as some peas are free from any detectible mottling. In addition, identification of new releases as winter dry peas will likely become more improbable in the not too distant future as breeders have indicated that future releases will be void of any seed coat mottling or patterning.

Also of concern has been the release and marketing of a number of spring-planted “miscellaneous pea” varieties (i.e., maple peas) that mimic the visual appearance of the conventionally mottled winter dry peas. Because maple peas and traditional winter dry peas have similar shape and seed coat color, they are difficult to distinguish.

In an effort to preserve class purity and permit new and future winter dry pea releases to be certified as being smooth yellow or green dry peas, GIPSA has reviewed the current marketing standards, identified the restrictive language, and rephrased the definitions to be more inclusive. Due to the broadening of the class definitions, the classification term, “Mottled Peas,” has been established for winter dry peas to better reflect the type of peas that the class represents.

Split Pea Definition and Classification Changes

If adopted, the proposed definition and classification changes for whole winter dry peas from “Winter Dry Peas” to “Mottled Peas” would affect the meaning of the split pea class, “Winter Split Peas.” The introduction of an amended whole dry pea class, “Mottled Peas,” which includes both spring and fall planted peas, requires that the current winter split pea definition be expanded to be more inclusive, and the descriptive classification term be changed to be more representative of the whole peas used in the production of this type of split pea. GIPSA believes that the classification term, “Miscellaneous Split Peas,” would be appropriate. Proposed changes in the general definition of split peas, as well as the specific classification definitions, are also being made to bring them more in line with those being proposed for whole dry peas.

Proposed GIPSA Action

GIPSA is proposing to revise select descriptive classification terms and definitions to allow new and future winter dry pea releases to be marketed as smooth yellow or green dry peas, and preserve purity of class by grouping colored or distinctively mottled peas (i.e., traditional winter dry and maple peas), regardless of planting date. GIPSA is proposing to revise the definitions for the following classes as follows:

1. “Whole Dry Peas.” Threshed seeds of the garden type pea plant (Pisum sativum L. and Pisum sativum var. arvense (L.) Poir.) which after the removal of dockage, contain 50 percent or more of whole peas and not more than 10.0 percent of foreign material.

2. “Smooth Yellow Dry Peas.” Dry peas which have smooth seed coats and yellow cotyledons and contain not more than 1.5 percent of other classes.

3. “Smooth Green Dry Peas.” Dry peas which have smooth seed coats and green cotyledons and contain not more than 1.5 percent of other classes.

4. “Wrinkled Dry Peas.” Dry peas which have wrinkled seed coats and contain not more than 1.5 percent of other classes.

5. “Split Peas.” Threshed seeds of the garden type pea plant (Pisum sativum L. and Pisum sativum var. arvense (L.) Poir.) which have 50 percent or more of the peas split into halves or smaller pieces and contain not more than 10.0 percent of foreign material.

6. “Green Split Peas.” Split peas from smooth green dry pea varieties.

7. “Yellow Split Peas.” Split peas from smooth yellow dry pea varieties.

In addition, GIPSA proposes to replace the classification term and definition of “Winter Dry Peas” and “Winter Split Peas” with “Mottled Dry Peas” and “Miscellaneous Split Peas,” respectively. The proposed changes read as follows:

1. “Mottled Dry Peas.” Dry peas of the Austrian winter pea type and other peas which have colored or distinctively mottled seed coats which contain not more than 1.5 percent of other classes.

2. “Miscellaneous Split Peas.” Split peas from classes of whole peas other than smooth green or smooth yellow dry pea varieties.

Taking into account the nature of the proposed changes, GIPSA will solicit comments for 30 days in order to help facilitate the marketing of whole dry peas and split peas.

All comments received will be considered by GIPSA before final action is taken on the proposal.

Authority: 7 U.S.C. 1621-1627.

Alan R. Christian,
Acting Administrator, Grain Inspection, Packers and Stockyards Administration.

[FR Doc. E9-9017 Filed 4-17-09; 8:45 am]

BILLING CODE 3410-KD-P